DEPARTMENT OF COMMERCE

National Oceanic and Atmospheric Administration

15 CFR Part 998

[Docket No. 220408-0088]

RIN 0648-BL11

Appointment of Officer Candidates and Obligated Service Requirements of Officers of the National Oceanic and Atmospheric Administration Commissioned Officer Corps

AGENCY: Office of Marine and Aviation Operations (OMAO), National Oceanic and Atmospheric Administration (NOAA), U.S. Department of Commerce.

ACTION: Final rule.

SUMMARY: On December 23, 2020, the President signed into law the National Oceanic and Atmospheric Administration Commissioned Officer Corps Amendments Act of 2020, which amended statutory authorities relating to the appointment, promotion, benefits, obligations, and separation of commissioned officers of the National Oceanic and Atmospheric Administration Commissioned Officer Corps (NOAA Corps). This final rule provides regulations governing the qualifications, selection, appointment, terms of service, pay of officer candidates, and service obligations of the NOAA Corps.

DATES: This rule is effective June 24, 2022.

FOR FURTHER INFORMATION CONTACT: LCDR Zachary Cress, NOAA Corps, OMAO Strategic Management Division, 301-713-1045.

SUPPLEMENTARY INFORMATION:

Background

The NOAA Corps is one of the Nation's eight uniformed services and was established as the U.S. Coast and Geodetic Survey Corps on May 22, 1917. The NOAA Corps is composed of a cadre of professionals trained in engineering, earth sciences, oceanography, meteorology, fisheries science, and other related disciplines. NOAA Corps officers operate NOAA's fleet of ships, aircraft, and uncrewed systems, conduct diving operations, and serve in staff and leadership positions throughout NOAA. NOAA Corps officers use the same naval commissioned officer ranks as the U.S. Navy and U.S. Coast Guard and receive the same pay and benefits as members of the other uniformed services as authorized by Title 37 of the U.S. Code.

National Oceanic and Atmospheric Administration Commissioned Officer Corps Amendments Act of 2020

The National Oceanic and Atmospheric Administration Commissioned Officer Corps Amendments Act of 2020 (NCAA) revised provisions related to the NOAA Corps. (33 U.S.C. 3001 et seq.). The NCAA sets forth new requirements for the NOAA Corps including requirements concerning commissioned grades and operational strength numbers, obligated service, training and physical fitness, education loan assistance, recruitment, appointment and promotions, separation and retirement, sexual harassment and assault prevention, and other workforce issues.

Officer Candidate Appointments and Obligated Service Requirements

The majority of NOAA Corps officers must complete NOAA's Basic Officer Training Class (BOTC), which is administered by the NOAA Corps Officer Training Center and co-located with the U.S. Coast Guard Officer Candidate School, before reporting for their first active duty assignment. Currently, all officer candidates attending BOTC receive a temporary appointment as ensign (pay grade O-1) prior to receiving a permanent appointment as ensign, rather than a temporary officer candidate rank similar to other uniformed services.

33 U.S.C. 3034 authorizes the Secretary to assign a temporary officer candidate rank to individuals enrolled in BOTC and under consideration for an original appointment as an officer upon graduation from BOTC. Each officer candidate would be required to sign an agreement with the Secretary regarding the officer candidate's term of service in the NOAA Corps and agree to accept an appointment after graduating from BOTC, if tendered, and serve for four years immediately after receiving such appointment. Officer candidates who do not fulfill the term of service in the NOAA Corps would be subject to repayment requirements described in 33 U.S.C. 3006. Officer candidates enrolled in BOTC would be entitled to pay at rates equal to the basic pay of an enlisted member in the pay grade of E-5 with less than 2 years of service, rather than the pay grade of O-1, as authorized by 37 U.S.C. 203(f).

33 U.S.C. 3006 authorizes the establishment of obligated service requirements of NOAA Corps officers for appointments, training, promotions, separations, continuations, and retirements of officers not otherwise covered by law, and it requires the Secretary and officers to enter into written agreements describing the officers' obligated service requirements. This section authorizes the Secretary to require an officer who fails to meet the service requirements to reimburse the Secretary in an amount that bears the same ratio of the total costs of training provided to that officer as the unserved portion of active duty bears to the total period of active duty the officer agreed to serve.

33 U.S.C. 3071 applies certain provisions of Title 10 to members of the NOAA Corps. In particular, § 3071(a)(22) applies to NOAA Corps officers the provisions of 10 U.S.C. 2005, relating to advanced education assistance, active duty agreements, and reimbursement requirements, including the repayment provisions of 37 U.S.C. 303(e) and 373.

Pursuant to the requirements of the NCAA, OMAO is promulgating these regulations to govern the process by which officer candidates are selected and appointed. Under these regulations, NOAA Corps personnel boards will review applicants and provide recommendations to the Secretary of Commerce. Selected applicants will sign a written agreement with the Secretary regarding their terms of service, including the requirements to complete BOTC, accept an appointment as ensign upon graduation, if offered, and to then serve in the NOAA Corps for 4 years. Officer candidates or former officer candidates who do not meet these terms of service will be considered to be in breach of their written agreement with the Secretary and subject to repayment requirements for the cost of their training.

These regulations also govern other obligated service requirements of NOAA Corps officers that are subject to repayment requirements. Under these regulations, NOAA Corps officers will be required to enter into written agreements with the Secretary to continue to serve for specified periods in exchange for training or education. In general, training greater than 60 days in length but less than 1 year will incur an active duty service obligation equal to three times the length of training. These regulations also provide fixed-term active duty service obligations for certain operational training, such as fixed-wing multi-engine pilot training.

Officer candidates, former officer candidates, and active duty NOAA Corps officers who do not meet the terms of their written agreements for BOTC, or other training or education, or who become unqualified for continued service in the NOAA Corps, will be subject to repayment and required to reimburse the government in an amount proportional to the amount of time left on their service obligation, unless waived by the Secretary. Under these regulations, an obligation to reimburse the government is a debt owed to the United States, and a discharge in bankruptcy does not discharge the individual from such debt.

The Secretary may waive service obligations for original appointments, NOAA Corps or officer training, and undergraduate assistance programs if the officer becomes unqualified to serve based on circumstances not within control of the officer, or they become physically disqualified because of a condition that was not the result of misconduct. The Secretary may also waive service obligations for civilian training or education of officers who fail to satisfy their eligibility requirements if the Secretary determines that the required repayment would be contrary to personnel policy, against equity and good conscience, or contrary to the best interest of the United States.

These regulations will take effect June 24, 2022.

Classification

Pursuant to 5 U.S.C. 553(a)(2), the provisions of the Administrative Procedure Act requiring notice of proposed rulemaking and the opportunity for public participation are inapplicable to this final rule because this rule falls within the agency management and personnel exception as it strictly regulates NOAA Corps personnel, addresses internal agency management, and affects only persons outside the agency through the formulation of hiring standards.

This rule has been determined to be not significant for purposes of Executive Order 12866.

This regulation is exempt from the notice and comment provisions of the APA. Therefore, the requirements of the Regulatory Flexibility Act (5 U.S.C. 601 et seq.) do not apply. Accordingly, no Regulatory Flexibility Analysis is required and none has been prepared.

This rule does not have any collection of information requirements under the Paperwork Reduction Act.

List of Subjects in 15 CFR Part 998

Government employees, Military personnel, Administrative practice and procedure.

Date: May 4, 2022.
Rear Admiral Nancy Lynn Hann,
Director, NOAA Corps and Office of Marine and Aviation Operations.

For the reasons set forth in the preamble, 15 CFR chapter IX is amended as follows:

1. Add part 998 to read as follows:

PART 998—NATIONAL OCEANIC AND ATMOSPHERIC ADMINISTRATION COMMISSIONED OFFICER CORPS

Sec.
Subpart A—Administrative
998.1 Definitions.
Subpart B—Appointment of Officer Candidates of the Commissioned Officer Corps of the National Oceanic and Atmospheric Administration
998.10 Appointments of officer candidates.
998.11 Qualifications of officer candidates.
998.12 Selection of officer candidates.
Subpart C—Active Duty Service Obligations of NOAA Corps Officers
998.20 Applicability.
998.21 Purpose.
998.22 Policy.
998.23 Service obligations for original appointments.
998.24 Service obligations for NOAA Corps or officer training and education.
998.25 Service obligations for civilian training and advanced education.
998.26 Computation of service obligations for NOAA Corps and officer training and civilian training and advanced education.
998.27 Service obligations for undergraduate assistance programs.
998.28 Notification and verification of active duty service obligations.
998.29 Waivers or suspension of compliance.
998.30 Repayment for failure to satisfy service requirements.

Subpart A—Administrative

Authority: 33 U.S.C. 3001 et seq.

§ 998.1 Definitions.

As used in this part:

Administration means the National Oceanic and Atmospheric Administration (NOAA).

Administrator means the Under Secretary of Commerce for Oceans and Atmosphere and NOAA Administrator.

ADSO means active duty service obligation.

Chain of command means the succession of commanding officers from a superior to a subordinate through which command is exercised, and the succession of officers or civilian personnel through whom administrative control is exercised, including supervision and rating of performance.

Civilian training and advanced education means education or training above the secondary school level but does not include technical training (such as maritime and aviation training provided to a member to qualify such member to perform a specified military or operational function), workshops, or short-term training programs.

Director means the Director of NOAA Corps and the Office of Marine and Aviation Operations.

Officer candidate means an individual who is enrolled in the basic officer training program of the Administration and is under consideration for appointment as an officer under the appointment authority for graduates of the basic officer training program of the commissioned officer corps of the Administration (33 U.S.C. 3021(a)(2)(A)).

NOAA Corps means the commissioned officer corps of the National Oceanic and Atmospheric Administration.

Secretary means the Secretary of Commerce.

Written agreement means an agreement entered into between the Secretary and a NOAA Corps officer or officer candidate that describes the officer's obligated service requirements in return for appointments, training, promotions, separations, continuations, and retirements as the Secretary considers appropriate.

Subpart B—Appointment of Officer Candidates of the Commissioned Officer Corps of the National Oceanic and Atmospheric Administration

Authority: 33 U.S.C. 3006, 3021, 3034; 37 U.S.C. 203(f).

§ 998.10 Appointments of officer candidates.

(a) The Secretary shall determine the number of appointments of officer candidates annually.

(b) Applicants for an appointment as an officer candidate shall meet all qualifications described in § 998.11.

(c) Selection and appointment of officer candidates shall be made according to the procedures described in § 998.12.

(d) The Secretary may dismiss any officer candidate from the NOAA Corps Basic Officer Training Class who, during the candidate's term as an officer candidate, the Secretary considers unsatisfactory in either academics or conduct, or not adapted for a career in the NOAA Corps. Officer candidates shall be subject to all rules governing discipline prescribed by the Director.

(e) Each officer candidate shall sign an agreement with the Secretary regarding the officer candidate's term of service in the NOAA Corps, which shall provide that the candidate agrees to:

(1) Complete the course of instruction of the NOAA Corps Basic Officer Training Class;

(2) Upon graduation from the Basic Officer Training Class program, accept an appointment, if tendered, to the grade of ensign; and

(3) Serve on active duty in the NOAA Corps for at least four years immediately after such appointment.

(f) An officer candidate or former officer candidate who is on active duty but who has not yet met their initial service obligation under paragraph (e)(3) of this section shall be considered to be in breach of their written agreement if they do not fulfill the terms of their service.

(g) An individual found to be in breach of their written agreement shall be subject to the repayment provisions of § 998.30.

§ 998.11 Qualifications of officer candidates.

(a) Original appointments to the NOAA Corps are made based on the qualifications of individual applicants and the needs of the NOAA Corps. Each applicant must:

(1) Be a citizen of the United States of good moral character;

(2) Be able to obtain and maintain a security clearance level of Secret;

(3) Meet physical and mental qualifications as the Secretary may direct, such as physical fitness, medical, dental, and mental examinations;

(4) Hold a baccalaureate degree, preferably in a major course of study related to NOAA's scientific or technical activities, awarded from an accredited postsecondary institution. All applicants, regardless of degree(s) awarded, must have completed at least 48 semester (72 quarter) hours in math, science, or engineering coursework pertaining to NOAA's mission unless waived by the Director based on the needs of the NOAA Corps; and

(5) Have not twice failed selection for promotion in another uniformed service.

(b) [Reserved]

§ 998.12 Selection of officer candidates.

(a) The Secretary shall prescribe the number of applicants to be selected for officer candidates and the basic qualifications necessary to fulfill the needs of the NOAA Corps.

(b) A personnel board convened pursuant to 33 U.S.C. 3022 shall review all qualified applicants and make recommendations for appointment to the Secretary and the President. Applicants shall be rated on collegiate record, work experience, references, the report of the interviewing officer, and all other available information.

(c) Upon review of the recommendations of the personnel board, the Secretary shall make those temporary appointments in the grade of officer candidate as deemed appropriate. An original appointment of an officer candidate, upon graduation from the Basic Officer Training Class program of the NOAA Corps, may not be made in any other grade than ensign.

(d) Officer candidates receiving appointments as ensigns upon graduation from the Basic Officer Training Class program shall take rank according to their proficiency as shown by the order of their merit at date of graduation.

Subpart C—Active Duty Service Obligations of NOAA Corps Officers

Authority: 10 U.S.C. 2005; 33 U.S.C. 3006, 3071(a)(22); 37 U.S.C. 303a(e), 373.

§ 998.20 Applicability.

This subpart applies to all active duty NOAA Corps officers and officer candidates.

§ 998.21 Purpose.

(a) This subpart establishes policies and procedures for the receipt, computation, and notice of ADSOs for all commissioned officers on the active duty lineal list. It also describes how multiple ADSOs incurred by the same officer are managed.

(b) The ADSOs are intended to assist the NOAA Corps in:

(1) Effectively managing its resources and workforce;

(2) Accomplishing its assigned missions;

(3) Maintaining an experienced and well-qualified officer force; and

(4) Ensuring a reasonable return to the NOAA Corps following an expenditure of public funds.

(c) Public funds are expended starting with the commissioning phase through the NOAA Corps Basic Officer Training Class and other commissioning programs. It continues when an officer enters active duty and enters training or education programs to qualify for specialized knowledge and skills.

§ 998.22 Policy.

(a) In general, individuals entering active duty in the NOAA Corps must complete at least four years of obligated service upon appointment.

(b) NOAA Corps officers who complete Government-funded or -sponsored formal education and training programs shall incur an ADSO. Officers must fulfill ADSOs before they are eligible for voluntary separation. The Director may grant a waiver of the ADSO as described in § 998.29. Officers will not be further obligated beyond the dates that ADSOs are fulfilled without their written consent. Officers who attend NOAA Corps and officer training programs, or civilian courses of instruction as stated in this Subpart may incur an ADSO for up to six years upon completion or termination from the course(s).

(c) All NOAA Corps officers shall enter into written agreements that describe the officer's obligated service requirements prescribed in this subpart in return for such Government-funded or -sponsored education and training. The written agreement shall document the total cost of training that may be subject to the repayment provisions of § 998.30.

§ 998.23 Service obligations for original appointments.

Officer candidates accepting an original appointment in the NOAA Corps upon graduation from the NOAA Corps Basic Officer Training Class as described in subpart B of this part shall incur an ADSO of 4 years.

§ 998.24 Service obligations for NOAA Corps or officer training and education.

(a) NOAA Corps officers who attend any NOAA Corps or uniformed service officer training or education whose course of instruction is longer than 60 days or produces a duty under instruction officer evaluation report for long term training shall incur an ADSO to begin upon completion of the course or termination of attendance. If the officer does not complete the NOAA Corps or officer training, the ADSO shall still apply. The ADSO shall be calculated according to § 998.26. For the purpose of determining ADSOs, all aviation and maritime training longer than 60 days, not including the Basic Officer Training Class, shall be considered to be NOAA Corps or officer training. Exceptions to the computation standards in § 998.26 for NOAA Corps and officer training are as follows:

(1) Officers who attend initial fixed-wing multi-engine flight training shall incur a six-year ADSO upon completion of the course or termination of attendance;

(2) Officers who attend heavy aircraft flight training for the first time shall incur a four-year ADSO upon completion of the course or termination of attendance;

(3) Officers who attend heavy aircraft flight training for a second time for the purpose of qualification on new airframes shall incur a three-year ADSO upon completion of the course or termination of attendance;

(4) Officers who attend a test pilot school longer than six months (including the U.S. Naval Test Pilot School and U.S. Air Force Test Pilot School) shall incur a four-year ADSO upon completion of the course or termination of attendance; and

(5) Officers selected as candidates for the National Aeronautics and Space Administration Astronaut Corps shall incur a three-year ADSO upon the conclusion of their detail and return to the NOAA Corps.

(b) Concurrent obligations. An ADSO incurred under this section shall be served concurrently with an ADSO previously incurred under any other section of this part, or any other provision of law, except as provided for officers on active duty entering into an agreement for education loan repayment under § 998.27(a). When a newly incurred ADSO under this section is to be served concurrently with an existing ADSO, the obligated period will be equal to the length of the longest remaining obligation. The Commissioned Personnel Center will track each ADSO independently and notify the officer when each is fulfilled.

(c) Consideration of NOAA Corps and officer training toward fulfillment of other service obligations. Time spent in NOAA Corps or officer training is considered active duty service and shall be credited toward fulfilling an ADSO previously incurred under any other section of this part, or any other provision of law.

§ 998.25 Service obligations for civilian training and advanced education.

(a) Full-time courses. Officers who attend full-time courses at civilian institutions that are fully funded by NOAA for more than 60 days will incur an ADSO to begin upon completion of the course or termination of attendance. One ADSO will be incurred per written agreement for training or education, as provided under § 998.22. If the officer does not complete the course of instruction, the ADSO shall still apply. The ADSO shall be calculated according to § 998.26.

(b) Part-time courses. Officers who participate in part-time courses at civilian institutions that are fully funded by NOAA for more than 60 days will incur an ADSO upon completion of the course or termination of attendance. One ADSO will be incurred per written agreement for training or education, as provided under § 998.22. If the officer does not complete the course of instruction, the ADSO shall still apply. The ADSO will equal the length of training or education, computed in days. The length of training or education will be computed from the first day of instruction until the last day, to include breaks, weekends, holidays, and summers, regardless of whether the officer attended classes during those periods.

(c) NOAA Leadership Competencies Development Program. NOAA Corps officers who participate in NOAA's Leadership Competencies Development Program shall incur an ADSO of two years upon graduation from the program.

(d) Voluntary disenrollment or disenrollment for poor performance. If an officer voluntarily terminates their enrollment or is required to disenroll due to poor performance in a program under this section, the ADSO will be based on what would have been the expected graduation date.

(e) Disenrollment for mission needs. Each written agreement for civilian training or advanced education under this subpart shall provide that if an officer terminates enrollment because of a recall to meet urgent mission needs as determined by the Director, no ADSO will be incurred.

(f) Consecutive obligations. ADSOs resulting from more than one written agreement for civilian education under this section are to be served consecutively. For example, an officer completing a NOAA-funded graduate certificate course of instruction under one written agreement followed by a NOAA-funded master's degree under a second written agreement will incur multiple ADSOs to be served consecutively. The ADSOs will be calculated separately for each written agreement according to § 998.26. When a newly incurred ADSO is to be served consecutively with another, add the period of the new ADSO to the remaining portion of the existing ADSO. In cases where the compounded period of consecutive ADSOs exceeds six years, it will be capped at 6 years.

(g) Concurrent obligations. An ADSO incurred under this section can be served concurrently with an ADSO previously incurred under any other section of this part or any other provision of law. When a newly incurred ADSO under this section is to be served concurrently with an existing ADSO under another section of this part, the officer's total obligated period will be equal to the length of the longest remaining obligation. The Commissioned Personnel Center will track each ADSO independently and notify the officer when each is fulfilled.

(h) Consideration of civilian education and training toward fulfillment of other service obligations. Time spent at a civilian education or training program is considered active duty service and shall be credited toward fulfilling an ADSO incurred under any other section of this part or any other provision of law. The time spent attending a civilian education or training program under one written agreement will not be credited toward fulfilling an existing ADSO for a previous civilian education or training program under a previous written agreement incurred under this section.

§ 998.26 Computation of service obligations for NOAA Corps and officer training and civilian training and advanced education.

Service obligations incurred under § 998.24 and § 998.25(a) are computed as shown in this section, with the exception of fixed-period ADSOs as provided under § 998.24(a)(1) through (5). Officers may accumulate more than one ADSO from multiple obligating events. When an officer incurs an ADSO, compute the ADSO using the following rules:

(a) For obligating events that require calculation:

(1) For training greater than 60 days but equal to or fewer than 365 days:

(i) Step 1. Count the number of calendar days of the course of instruction using the beginning and end dates of the course, including breaks, weekends, holidays, and summers, regardless of whether the officers attended classes during those periods.

(ii) Step 2. Multiply the total found in Step 1 by three to get the total length of the ADSO in days.

(iii) Step 3. Add the number of days found in Step 2 to the end date of the training to determine the date that the ADSO will expire.

(iv) Example. An officer attends a semester-long civilian course of instruction that begins on January 1, 2021, and ends on May 30, 2021.

(A) Step 1. January 1, 2021 to May 30, 2021 = 150 training days.

(B) Step 2. 150 training days × 3 = 450 days, or 1 year, 85 days ADSO length.

(C) Step 3. May 30, 2021 + 450 days = August 23, 2022 ADSO expiration.

(2) For training greater than 365 days:

(i) Step 1. The first 365 days of training automatically incur three years ADSO.

(ii) Step 2. Count the number of additional training days from the 366th day to the end date of the course, including breaks, weekends, holidays, and summers, regardless of whether the officers attended classes during those periods.

(iii) Step 3. Add the number of days found in Step 2 to three years to determine the total ADSO length.

(iv) Step 4. Add the total ADSO length found in Step 3 to the end date of the training to determine the date that the ADSO will expire.

(v) Example. An officer attends a full-time civilian postgraduate program that spans three academic years, beginning on September 1, 2021 and graduating on May 31, 2024.

(A) Step 1. First year: September 1, 2021 to August 31, 2022 = 3 year ADSO.

(B) Step 2. Additional training time: September 1, 2022 to May 31, 2024 = 639 days or 1 year, 274 days.

(C) Step 3. 3-year ADSO + 639 days = 4 years, 274 days total ADSO length.

(D) Step 4. May 31, 2024 + 4 years, 274 days = March 1, 2029 ADSO expiration.

(b) The officer will ensure that supporting documents for each event are submitted to the NOAA Commissioned Personnel Center for review and verification for accurate calculation of their ADSO. The length of the ADSO shall be identified in the written agreement with the officer described in § 998.22(c).

§ 998.27 Service obligations for undergraduate assistance programs.

(a) Education Loan Repayment Program. An individual who enters into a written agreement to serve on active duty in the NOAA Corps as part of an education loan repayment program authorized by 33 U.S.C. 3077 shall serve one year for each maximum annual amount or portion thereof paid on behalf of the individual for qualified loans. If an individual is on active duty when entering into the agreement and has an existing ADSO, the ADSO incurred under this subsection must be served consecutively to any other existing ADSO. If an individual is not on active duty when entering into an agreement, the ADSO under this paragraph (a) may be served concurrently with an ADSO incurred under § 998.23. ADSOs incurred under § 998.24 and § 998.25 after an ADSO is incurred under this paragraph (a) may be served concurrently with the ADSO incurred under this paragraph (a).

(b) Student Pre-Commissioning Assistance Program. An individual entering into a written agreement for pre-commissioning education assistance authorized by 33 U.S.C. 3079 shall agree to serve on active duty for:

(1) Three years if the individual received fewer than three years of assistance; and

(2) Five years if the individual received at least three years of assistance.

(c) Concurrent obligations. An ADSO incurred under paragraph (b) of this section may be served concurrently with an ADSO incurred under §§ 998.23, 998.24, and 998.25.

§ 998.28 Notification and verification of active duty service obligations.

NOAA Corps officers will be informed of their ADSOs under this part as indicated:

(a) The NOAA Corps Commissioned Personnel Center shall—

(1) Maintain and make available for review to the officer a copy of the written agreement specifying the length of service obligation incurred; and

(2) Verify that officers meet the requirements of their written agreements and determine if a breach has occurred and, if so, notify the officer of such determination in writing.

(b) [Reserved]

§ 998.29 Waivers or suspension of compliance.

(a) The Secretary may waive the service obligations of an officer incurred under § 998.23, § 998.24, and § 998.27 who:

(1) Becomes unqualified to serve on active duty in the NOAA Corps because of a circumstance not within the control of that officer; or

(2) Is:

(i) Not physically qualified for appointment; and

(ii) Determined to be unqualified for service in the NOAA Corps because of a physical or medical condition that was not the result of the officer's own misconduct or grossly negligent conduct.

(b) The Secretary may waive the service obligations of an officer incurred under § 998.25 who fails to satisfy the eligibility requirements if the Secretary determines that the imposition of the repayment requirement and the termination of unpaid amounts of such assistance would be—

(1) Contrary to personnel policy or management objective;

(2) Against equity and good conscience; or

(3) Contrary to the best interest of the United States.

(c) With respect to a service obligation under § 998.27(a), the Secretary may relieve an officer's ADSO and provide an alternative obligation at the discretion of the Secretary, the terms of which will be documented in a new written agreement.

(d) The authorities provided in this part to grant waivers or exceptions will be referenced in all written agreements.

§ 998.30 Repayment for failure to satisfy service requirements.

(a) An officer who fails to satisfy eligibility requirements or to meet the service requirements prescribed in §§ 998.23, 998.24, 998.25, 998.27(a), and 998.27(b) is required to reimburse the Government in an amount that bears the same ratio of the total costs of the training or education provided to that officer as the unserved portion of active duty bears to the total period of active duty the officer agreed to serve, unless waived by the Secretary under § 998.29(a) or (b). Calculation of the total cost of training subject to repayment includes tuition and matriculation fees, library and laboratory services, purchase or rental of books, materials, and supplies, but does not include travel, lodging, salary, or other allowances otherwise entitled to the individual. The total cost shall be calculated by the NOAA Commissioned Personnel Center and included in any written agreement.

(b) An obligation to reimburse the Government under this Section is, for all purposes, a debt owed to the United States.

(c) A discharge in bankruptcy under title 11 of the U.S. Code that is entered less than 5 years after the termination of a written agreement entered into under this part does not discharge the individual signing the agreement from a debt arising under such agreement.

[FR Doc. 2022-10945 Filed 5-24-22; 8:45 am]

BILLING CODE 3510-12-P